DEPARTMENT OF THE TREASURY

Office of Thrift Supervision

[AC-62 OTS Nos. 03870 and H-4782]

Iroquois FS&LA, Watseka, IL; Approval of Conversion Application

Notice is hereby given that on May 13, 2011, the Office of Thrift Supervision approved the application of Iroquois FS & LA, Watseka, Illinois, to convert to the stock form of organization. Copies of the application are available for inspection by appointment (phone number: (202) 906-5922 or e-mail: public.info@ots.treas.gov) at the Public Reading Room, 1700 G Street, NW., Washington, DC 20552, and the OTS Central Regional Office, 1 South Wacker Drive, Suite 2000, Chicago, Illinois 60606.

Dated: May 16, 2011.
By the Office of Thrift Supervision.
Sandra E. Evans,
Federal Register Liaison.

[FR Doc. 2011-12354 Filed 5-19-11; 8:45 am]

BILLING CODE 6720-01-M